FEDERAL RETIREMENT THRIFT INVESTMENT BOARD

Sunshine Act Meeting

TIME AND DATE: 9:00 a.m. (Eastern Time), February 25, 2013.

PLACE: 10th Floor Board Meeting Room, 77 K Street, NE., Washington, DC 20002.

STATUS: Parts will be open to the public and parts closed to the public.

MATTERS TO BE CONSIDERED:

Parts Open to the Public

1. Approval of the Minutes of the January 28, 2013 Board Member Meeting.

2. Thrift Savings Plan Activity Reports by the Executive Director.

a. Monthly Participant Activity Report.

b. Monthly Investment Performance Report.

c. Legislative Report.

3. Investment Structure Project Review.

4. Investment Options Review.

5. Office of External Affairs Report.

6. Strategic Performance Metric Report.

7. Digital Board Material.

Parts Closed to the Public

8. Approval of the Minutes of the January 28, 2013 Closed Board Meeting.

9. Procurement.

CONTACT PERSON FOR MORE INFORMATION: Kimberly Weaver, Director, Office of External Affairs, (202) 942-1640.

Dated: February 15, 2013.
James Petrick,
Secretary, Federal Retirement Thrift Investment Board.

[FR Doc. 2013-03973 Filed 2-15-13; 4:15 pm]

BILLING CODE 6760-01-P